NUCLEAR REGULATORY COMMISSION

Standard Review Plan for the Review of the Department of Energy Plans for Achieving Regulatory Compliance at Sites With Contaminated Ground Water Under Title I of the Uranium Mill Tailings Radiation Control Act; Draft Report for Comment

AGENCY: Nuclear Regulatory Commission.

ACTION: Notice of Availability and Request for Comments.

SUMMARY: The Nuclear Regulatory Commission (NRC) is announcing the availability of, and requesting comments on, NUREG-1724, “Standard Review Plan for the Review of DOE Plans for Achieving Regulatory Compliance at Sites with Contaminated Ground Water under Title I of the Uranium Mill Tailings Radiation Control Act.”

The U.S. Department of Energy (DOE) is conducting ground-water corrective actions under the Uranium Mill Tailings Remedial Action Groundwater Project. This Standard Review Plan will provide guidance to NRC staff performing safety and environmental reviews of ground-water quality compliance activities conducted by the DOE under Title I of the Uranium Mill Tailings Radiation Control Act.

The purpose of this Standard Review Plan is to ensure the quality and uniformity of NRC staff reviews of site-specific documents describing DOE plans for achieving regulatory compliance at sites with contaminated groundwater. The standard review plan is written to cover a variety of site conditions and plans. Each section provides a description of the areas of review, review procedures, acceptance criteria, and an evaluation of findings.

DATES: The comment period ends October 10, 2000. Comments received after that time will be considered if practicable.

ADDRESSES: Submit written comments to: David L. Meyer, Chief, Rules and Directives Branch, Division of Administrative Services, Office of Administration, U.S. Nuclear Regulatory Commission, Washington, DC 20555-0001. Hand-deliver comments to 11545 Rockville Pike, Rockville, Maryland, between 7:15 a.m. and 4:30 p.m. on Federal workdays.

Persons who are considering submitting public comments may request a free single copy of draft NUREG-1724 by writing to the U.S. Nuclear Regulatory Commission, ATTN: William Ford, Mail Stop T7J8, Washington, DC 20555-0001. Alternatively, requests may be submitted through the Internet by addressing electronic mail to whf@nrc.gov. A copy of draft NUREG-1724 is also available for inspection, and copying for a fee, in the NRC Public Document Room, 2120 L Street, NW (Lower Level), Washington, DC 20555-0001.

The NRC requests comments on this licensing guidance NUREG. Comments should be sent to the address listed above.

FOR FURTHER INFORMATION, CONTACT: Mr. William Ford, T-7-J8, Fuel Cycle Licensing Branch, Division of Fuel Cycle Safety and Safeguards, Office of Nuclear Material Safety and Safeguards, U.S. Nuclear Regulatory Commission, Washington, DC 20555-0001, telephone (301) 415-6630; electronic mail address: whf@nrc.gov.

Electronic Address

NUREG-1724 is available electronically by visiting the NRC's Home Page at http://www.nrc.gov/NRC/NUREGS/indexnum.html or http://www.nrc.gov/NRC/wwwforms.html.

Dated at Rockville, Maryland this 28th day of June, 2000.
For the Nuclear Regulatory Commission.
Philip Ting,
Chief, Fuel Cycle Licensing Branch, Division of Fuel Cycle Safety and Safeguards, Office of Nuclear Material Safety and Safeguards.

[FR Doc. 00-17466 Filed 7-10-00; 8:45 am]

BILLING CODE 7590-01-P